DEPARTMENT OF HEALTH AND HUMAN SERVICES

National Institutes of Health

Office of the Director, National Institutes of Health; Amended Notice of Meeting

Notice is hereby given of a change in the meeting of the Council of Councils, September 11, 2025 10:00 a.m. to September 12, 2025, 02:00 p.m., National Institutes of Health, 35A, 35 Convent Drive, Bethesda, MD, 20892 which was published in the Federal Register on August 08, 2025, 90 FR 38477, Doc. 15079.

This meeting is being amended to change the meeting format from In person and Virtual to Virtual; to change the location from National Institutes of Health, Building 35A, 35 Convent Drive, Rooms 630/640, Bethesda, MD 20892 to National Institutes of Health, 1 Center Drive, Bethesda, MD 20892; to change the start time on September 12, 2025 from 09:00 a.m. to 10:00 a.m.; and finally to change the end time on September 12, 2025 from 2:00 p.m. to 2:15 p.m. The meeting is partially closed to the public.

Dated: August 13, 2025.
Bruce A. George,
Program Analyst, Office of Federal Advisory Committee Policy.

[FR Doc. 2025-15558 Filed 8-14-25; 8:45 am]

BILLING CODE 4140-01-P